DEPARTMENT OF THE INTERIOR

Fish and Wildlife Service

[FWS-R9-IA-2008-N0326; 96300-1671-0000-P5]

Issuance of Permits

AGENCY: Fish and Wildlife Service, Interior.

ACTION: Notice of issuance of permits for endangered species.

SUMMARY: The following permits were issued.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
053639 | USFWS/National Fish and Wildlife Forensics Laboratory | 73 FR 49698; August 22, 2008 | Nov. 5, 2008.
707102 | Priour Brothers Ranch | 72 FR 70339; December 11, 2007 | Jan. 29, 2008.
704025 | H & L Sales, Inc | 72 FR 65351; November 20, 2007 | Jan. 29, 2008.
150411 | Alaska Department of Fish and Game | 72 FR 29542; May 29, 2007 | Feb. 8, 2008.
165762 | University of California-Davis | 72 FR 62484; November 5, 2007 | Feb. 21, 2008.
146704 | Memphis Zoological Gardens | 72 FR 9770; March 5, 2007 | July 21, 2008.
172290 | National Zoological Park | 73 FR 5206; January 29, 2008 | July 22, 2008.
172374 | White Oak Conservation Center | 73 FR 5206; January 29, 2008 | July 22, 2008.
174619 | Woodland Park Zoological Gardens | 73 FR 14266; March 17, 2008 | Aug. 22, 2008.
178755 | Chattanooga Zoo At Warner Park | 73 FR 21979; April 23, 2008 | Sept. 29, 2008.
52166 | Memphis Zoological Gardens | 73 FR 21979; April 23, 2008 | Sept. 29, 2008.
185779 | Chattanooga Zoo At Warner Park | 73 FR 36891; June 30, 2008 | Sept. 29, 2008.
179127 | Dallas World Aquarium Corp. | 73 FR 21981; April 23, 2008 | Oct. 1, 2008.
180803 | Laguna Vista Ranch, Ltd. | 73 FR 36891; June 30, 2008 | Nov. 12, 2008.
188579 | Smithsonian Institution | 73 FR 47207; August 13, 2008 | Nov. 12, 2008.
188631 | Barbara Dicely | 73 FR 47207; August 13, 2008 | Nov. 12, 2008.
189831 | Metro Richmand Zoo | 73 FR 49699; August 22, 2008 | Nov. 12, 2008.

Dated: November 28, 2008.
Lisa J. Lierheimer,
Senior Permit Biologist, Branch of Permits, Division of Management Authority.

[FR Doc. E8-30149 Filed 12-18-08; 8:45 am]

BILLING CODE 4310-55-P